DEPARTMENT OF TRANSPORTATION

Surface Transportation Board

[STB Docket No. AB-33 (Sub-No. 167X)]

Union Pacific Railroad Company—Abandonment and Discontinuance Exemption—in Cook County, IL

On May 7, 2002, Union Pacific Railroad Company (UP) filed with the Surface Transportation Board (Board) a petition under 49 U.S.C. 10502 for exemption from the provisions of 49 U.S.C. 10903-05 ¹ to abandon an 8.06-mile portion of a line of railroad, known as the Skokie Industrial Lead (the line), extending from milepost 12.60 south of Oakton Street to the north side of Dempster Street at milepost 13.64 (South Segment) and to discontinue service over a 1.04-mile portion of the line from milepost 13.64 to milepost 21.70 near Northfield (North Segment), a total distance of 9.10 miles, in Cook County, IL.² The line traverses U.S. Postal Service Zip Codes 60076 and 60077 and includes no stations.

¹ UP seeks exemptions from the offer of financial assistance (OFA) provisions of 49 U.S.C. 10904 and the public use provisions of 49 U.S.C. 10905. These exemption requests will be addressed in the final decision.

² In Union Pacific Railroad Company—Discontinuance of Service—In Cook County, IL, STB Docket No. AB-33 (Sub-No. 167) (STB served Mar. 28, 2001) (Waiver Decision), UP was granted a waiver from certain regulations requiring the filing of specific information in a discontinuance of service application. UP has elected instead to file this petition for exemption seeking to abandon the South Segment and to discontinue service on the North Segment. UP seeks to use the waiver only for the North Segment.

The line does not contain federally granted rights-of-way. Any documentation in UP's possession will be made available promptly to those requesting it.

The interest of railroad employees will be protected by Oregon Short Line R. Co.—Abandonment—Goshen, 360 I.C.C. 91 (1979).

By issuance of this notice, the Board is instituting an exemption proceeding pursuant to 49 U.S.C. 10502(b). A final decision will be issued by August 23, 2002.

Any OFA under 49 CFR 1152.27(b)(2) will be due no later than 10 days after service of a decision granting the petition for exemption. Each OFA must be accompanied by the filing fee, which currently is set at $1,100. See 49 CFR 1002.2(f)(25).

All interested persons should be aware that, following abandonment of rail service and salvage of the South Segment of the line, it may be suitable for other public use, including interim trail use. Any request for a public use condition under 49 CFR 1152.28 or for trail use/rail banking under 49 CFR 1152.29 will be due no later than June 13, 2002.³ Each trail use request must be accompanied by a $150 filing fee. See 49 CFR 1002.2(f)(27).

³ Because UP seeks to discontinue rail service over the North Segment of the line and not to abandon that segment, the trail use/rail banking and public use conditions are not applicable. See Waiver Decision. Therefore, a public use condition and trail use/rail banking may be requested only for the South Segment of the line (milepost 12.60 to milepost 13.64).

All filings in response to this notice must refer to STB Docket No. AB-33 (Sub-No. 167X) and must be sent to: (1) Surface Transportation Board, Case Control Unit, 1925 K Street, NW, Washington, DC 20423-0001; and (2) Mack H. Shumate, Jr., Senior General Attorney, 101 North Wacker Drive, Suite 1920, Chicago, IL 60606. Replies to the UP petition are due on or before June 13, 2002.

Persons seeking further information concerning abandonment and discontinuance procedures may contact the Board's Office of Public Services at (202) 565-1592 or refer to the full abandonment or discontinuance regulations at 49 CFR part 1152. Questions concerning environmental issues may be directed to the Board's Section of Environmental Analysis (SEA) at (202) 565-1552. [TDD for the hearing impaired is available at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at “WWW.STB.DOT.GOV.”

Decided: May 21, 2002.
By the Board, David M. Konschnik, Director, Office of Proceedings.
Vernon A. Williams,
Secretary.

[FR Doc. 02-13156 Filed 5-23-02; 8:45 am]

BILLING CODE 4915-00-P